DEPARTMENT OF HOMELAND SECURITY

Coast Guard

33 CFR Part 117

[CGD01-07-135]

Drawbridge Operation Regulations; Lake Champlain, North Hero and Grand Isle, VT

AGENCY: Coast Guard, DHS.

ACTION: Notice of temporary deviation from regulations.

SUMMARY: The Commander, First Coast Guard District, has issued a temporary deviation from the regulation governing the operation of the US2 Bridge across Lake Champlain, mile 91.8, between North Hero Island and Grande Isle (South Hero Island), Vermont. Under this temporary deviation the US2 Bridge may remain in the closed position from October 22, 2007 through February 1, 2008. Vessels that can pass under the draw without a bridge opening may do so at all times. This deviation is necessary to facilitate bridge rehabilitation construction.

DATES: This deviation is effective from October 22, 2007 through February 1, 2008.

ADDRESSES: Materials referred to in this document are available for inspection or copying at the First Coast Guard District, Bridge Branch Office, 408 Atlantic Avenue, Boston, Massachusetts, 02110, between 7 a.m. and 3 p.m., Monday through Friday, except Federal holidays. The telephone number is (617) 223-8364. The First Coast Guard District Bridge Branch Office maintains the public docket for this temporary deviation.

FOR FURTHER INFORMATION CONTACT: John McDonald, Project Officer, First Coast Guard District, at (617) 223-8364.

SUPPLEMENTARY INFORMATION: The US2 Bridge, across Lake Champlain, mile 91.8, between North Hero Island and Grand Isle (South Hero Island), Vermont, has a vertical clearance in the closed position of 13 feet at mean high lake elevation and 16 feet at mean low lake elevation. The existing drawbridge operation regulations are listed at 33 CFR 117.993(b).

The owner of the bridge, the Vermont Agency of Transportation (VTrans), requested a temporary deviation to facilitate rehabilitation repairs at the bridge.

Under this temporary deviation, in effect from October 22, 2007 through February 1, 2008, the US2 Bridge need not open for the passage of vessel traffic.

The US2 Bridge rarely opens during the time period this temporary deviation will be in effect. Vessels that can pass under the bridge without a bridge opening may do so at all times.

In accordance with 33 CFR 117.35(e), the bridge must return to its regular operating schedule immediately at the end of the designated time period. This deviation from the operating regulations is authorized under 33 CFR 117.35.

Should the bridge maintenance authorized by this temporary deviation be completed before the end of the effective period published in this notice, the Coast Guard will rescind the remainder of this temporary deviation, and the bridge shall be returned to its normal operation schedule. Notice of the above action shall be provided to the public in the Local Notice to Mariners and the Federal Register, where practicable.

Dated: October 4, 2007.
Gary Kassof,
Bridge Program Manager, First Coast Guard District.

[FR Doc. E7-20482 Filed 10-16-07; 8:45 am]

BILLING CODE 4910-15-P